DEPARTMENT OF ENERGY

Federal Energy Regulatory Commission

[Docket No. RP03-245-000]

Kinder Morgan Interstate Gas Transmission LLC; Notice of Technical Conference

April 10, 2003.

The Commission in its Order issued on February 28, 2003,¹ directed that a technical conference be held to address certain issues raised by Kinder Morgan's tariff filing to reflect the addition of a new interruptible storage-based park and loan service for its system under Rate Schedule S-PALS.

Take notice that the technical conference will be held on Tuesday, April 22, 2003, at 10 am, in a room to be designated at the offices of the Federal Energy Regulatory Commission, 888 First Street, NE., Washington, DC 20426.

¹ Kinder Morgan Interstate Gas Transmission LLC., 102 FERC ¶ 61,236 (2003).

All interested parties and Staff are permitted to attend.

Magalie R. Salas,
Secretary.

[FR Doc. 03-9394 Filed 4-15-03; 8:45 am]

BILLING CODE 6717-01-P